DEPARTMENT OF ENERGY

Federal Energy Regulatory Commission

[Docket No. EL07-14-000]

Wisconsin Public Power Inc., Municipal Wholesale Power Group, and Great Lakes Utilities, Complainants v. Wisconsin Power & Light Co., Respondent; Notice of Complaint

November 2, 2006.

Take notice that on November 1, 2006, Wisconsin Public Power Inc., Municipal Wholesale Power Group, and Great Lakes Utilities (collectively, Wisconsin Publics) filed a complaint against Wisconsin Power & Light Co., (WPL) pursuant to section 206 of the Federal Power Act (FPA). Wisconsin Publics states that in Docket Nos. ER06-1517 and ER06-1518 WPL has made filings under section 205 of the FPA to change its rates, terms, and conditions for service to Wisconsin Publics WPL's PR-1 Tariff and W-3A Tariff, respectively. Wisconsin Publics notes that it has recently submitted extensive protests regarding both of those filings, and has requested consolidation of Docket Nos. ER06-1517 and ER06-1518. Wisconsin Publics states that this complaint also seeks an investigation and refund effective date under section 206 of the FPA, and asks that this third proceeding be consolidated with both of the ER Dockets.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on November 21, 2006.

Magalie R. Salas,
Secretary.

[FR Doc. E6-18926 Filed 11-8-06; 8:45 am]

BILLING CODE 6717-01-P